DEPARTMENT OF COMMERCE

International Trade Administration

[C-570-063]

Cast Iron Soil Pipe Fittings From the People's Republic of China: Postponement of Preliminary Determination in the Countervailing Duty Investigation

AGENCY: Enforcement and Compliance, International Trade Administration, Department of Commerce.

DATES: Applied September 21, 2017.

FOR FURTHER INFORMATION CONTACT: Dennis McClure at (202) 482-5973 or Jinny Ahn at (202) 482-0339, AD/CVD Operations, Enforcement and Compliance, International Trade Administration, U.S. Department of Commerce, 1401 Constitution Avenue NW., Washington, DC 20230.

SUPPLEMENTARY INFORMATION:

Background

On August 2, 2017, the Department initiated a countervailing duty (CVD) investigation of cast iron soil pipe fittings from the People's Respublic of China.¹ Currently, the preliminary determination is due no later than October 6, 2017.

¹ See Cast Iron Soil Pipe Fittings From the People's Republic of China: Initiation of Countervailing Duty Investigation, 82 FR 37048 (August 8, 2017) (Initiation Notice).

Postponement of Preliminary Determinations

Section 703(b)(1) of the Tariff Act of 1930, as amended (the Act), requires the Department to issue the preliminary determination in a CVD investigation within 65 days after the date on which the Department initiated the investigation. However, section 703(c)(1) of the Act permits the Department to postpone the preliminary determination until no later than 130 days after the date on which the Department initiated the investigation if: (A) The petitioner ² makes a timely request for a postponement; or (B) the Department concludes that the parties concerned are cooperating, that the investigation is extraordinarily complicated, and that additional time is necessary to make a preliminary determination. Under 19 CFR 351.205(e), the petitioner must submit a request for postponement 25 days or more before the scheduled date of the preliminary determination and must state the reasons for the request. The Department will grant the request unless it finds compelling reasons to deny the request.

² The petitioner is Cast Iron Soil Pipe Institute (CISPI).

On September 5, 2017, the petitioner submitted a timely request that the Department postpone the preliminary CVD determination.³ The petitioner stated that it requests postponement of the preliminary determination because the Department selected at least one trading company as a mandatory respondent, and has not yet received questionnaire responses. Therefore, postponing the preliminary determination would allow for receipt and review of these responses.

³ See the petitioner's letter, “Re: Cast Iron Soil Pipe Fittings from the People's Republic of China: Request to Extend the Preliminary Determination,” dated September 5, 2017.

In accordance with 19 CFR 351.205(e), the petitioner stated the reasons for requesting a postponement of the preliminary determination, and the Department finds no compelling reason to deny the request. Therefore, in accordance with section 703(c)(1)(A) of the Act, the Department is postponing the deadline for the preliminary determination to no later than 130 days after the date on which this investigation was initiated, i.e., December 11, 2017.⁴ Pursuant to section 705(a)(1) of the Act and 19 CFR 351.210(b)(1), the deadline for the final determination of this investigation will continue to be 75 days after the date of the preliminary determination.

⁴ Postponing the preliminary determination to 130 days after initiation would place the deadline on Sunday, December 10, 2017. The Department's practice dictates that where a deadline falls on a weekend or federal holiday, the appropriate deadline is the next business day. See Notice of Clarification: Application of “Next Business Day” Rule for Administrative Determination Deadlines Pursuant to the Tariff Act of 1930, As Amended, 70 FR 24533 (May 10, 2005).

This notice is issued and published pursuant to section 703(c)(2) of the Act and 19 CFR 351.205(f)(1).

Dated: September 15, 2017.
Gary Taverman
Deputy Assistant Secretary for Antidumping and Countervailing Duty Operations, performing the non-exclusive duties of the Assistant Secretary for Enforcement and Compliance.

[FR Doc. 2017-20085 Filed 9-20-17; 8:45 am]

BILLING CODE 3510-DS-P